ENVIRONMENTAL PROTECTION AGENCY

40 CFR Part 300

[EPA-HQ-SFUND-1999-0010; FRL 9704-4]

National Oil and Hazardous Substances Pollution Contingency Plan; National Priorities List: Partial Deletion of the Eastland Woolen Mill Superfund Site

AGENCY: Environmental Protection Agency.

ACTION: Direct final rule.

SUMMARY: The Environmental Protection Agency (EPA) Region 1 is publishing a direct final Notice of Partial Deletion for portions of the Eastland Woolen Mill Superfund Site (Site), located in Corinna, Maine, from the National Priorities List (NPL).

The NPL, promulgated pursuant to section 105 of the Comprehensive Environmental Response, Compensation, and Liability Act (CERCLA) of 1980, as amended, is an appendix of the National Oil and Hazardous Substances Pollution Contingency Plan (NCP). This direct final partial deletion is being published by EPA with the concurrence of the State of Maine, through the Maine Department of Environmental Protection, because EPA has determined that all appropriate response actions at these identified parcels under CERCLA, other than five-year reviews, have been completed. However, this partial deletion does not preclude future actions under Superfund.

This partial deletion pertains to all Site media (soil and groundwater) of the properties proposed for deletion.

DATES: This direct final partial deletion is effective October 1, 2012 unless EPA receives adverse comments by September 4, 2012. If adverse comments are received, EPA will publish a timely withdrawal of the direct final partial deletion in the Federal Register informing the public that the partial deletion will not take effect.

ADDRESSES: Submit your comments, identified by Docket ID no. EPA-HQ-SFUND-1999-0010, by one of the following methods:

• http://www.regulations.gov. Follow on-line instructions for submitting comments.

• Email: hathaway.ed@epa.gov.

• Fax: 1-617-918-0372.

• Mail: Edward Hathaway, U.S. EPA Remedial Project Manager, 5 Post Office Square (OSRR07-1), Boston, MA 02109-3912.

• Hand delivery: Edward Hathaway, U.S. EPA Remedial Project Manager, 5 Post Office Square (OSRR07-1), Boston, MA 02109-3912. Such deliveries are only accepted during the Docket's normal hours of operation, and special arrangements should be made for deliveries of boxed information.

Instructions: Direct your comments to Docket ID no. EPA-HQ-SFUND-1999-0010. EPA's policy is that all comments received will be included in the public docket without change and may be made available online at http://www.regulations.gov, including any personal information provided, unless the comment includes information claimed to be Confidential Business Information (CBI) or other information whose disclosure is restricted by statute. Do not submit information that you consider to be CBI, or otherwise protected, through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically in http://www.regulations.gov or on disk or physical copy at:

EPA Region 1 Record Center, 5 Post Office Square, Boston, MA 02109. Phone: 1-617-918-1440. Hours: Mon-Fri 8 a.m. to 5 p.m.

Stewart Free Library, 8 Levi Stewart Drive, Corinna, ME 04928. Phone: 1-207-278-2454. Hours: Tuesday: 9 a.m.-2 p.m.; Wednesday: 1 p.m.-7 p.m.; Thursday: 1 p.m.-7 p.m.; Friday: 9 a.m.-2 p.m.

FOR FURTHER INFORMATION CONTACT: Edward Hathaway, Remedial Project Manager, U.S. Environmental Protection Agency, Region 1, OSRR07-1, 5 Post Office Square, Boston, MA 02109-3912 (617) 918-1372 email: hathaway.ed@epa.gov.

SUPPLEMENTARY INFORMATION:

Table of Contents

I. Introduction

II. NPL Deletion Criteria

III. Partial Deletion Procedures

IV. Basis for Site Partial Deletion

V. Partial Deletion Action

I. Introduction

EPA Region 1 is publishing this direct final Notice of Partial Deletion for the Eastland Woolen Mill (Site), from the National Priorities List (NPL). This partial deletion pertains to all site media, including soil and groundwater for the following properties:

Properties owned by the Town of Corinna that include properties described in Quitclaim Deed dated August 18, 1997 and recorded in Book 6471, Page 278, also identified as Lot 118 in Tax Map 18 dated 2004 and several additional properties that were part of the former Eastland Woolen Mill complex that were acquired due to a tax foreclosure. The tax foreclosure properties are described in the Penobscot County Registry of Deeds in Condemnation Order dated December 8, 1999 and recorded in Book 7251, Page 47 and a portion of the property has been subdivided in accordance with a plan dated October 19, 2004 entitled, “Subdivision Plan for the Town of Corinna of Main Street Subdivision on Main Street, Hill Street & St. Albans Road in Corinna, County of Penobscot, Maine,” recorded in said Registry in Plan File 2004, No. 167 (the “Subdivision Plan”). Specifically subdivision Lots 2, 3, 4, 5, 6, 8, 9, 10, the portion of Subdivision Lot 1 north of the Central Maine Power property and a portion of Lot 54 on Tax Map 18 along with Lot 53 on Tax Map 18, are proposed for deletion. The portions of Main Street and Hill Street within the subdivision are also proposed for deletion. Lot 53 on Tax Map 18 is also recorded in Book 853, Page 391 as a warranty deed dated September 26, 1913 and is known as “Winchester Park”.

Property owned by the State of Maine Department of Conservation identified in Release Deed dated December 5, 2003 Book 9114, Page 194, also identified in Tax Map 18 as Map 15 Lot 10 (which a portion of the State of Maine Department of Conservation recreational trail that runs through the Town of Corinna).

Property owned by the State of Maine Department of Transportation described in a Notice of Layout and Taking dated May 3, 2000 and recorded in the Penobscot County Registry of Deeds in Book 7357, Page 29, and being generally depicted on the Survey Plan Showing Property Subject to Proposed Environmental Covenants for Maine Department of Environmental Protection, Corinna, Penobscot County, Maine, which is recorded in the Penobscot County Registry of Deeds as Plan File 2012 No. 20, dated March 29, 2012, but excluding the portion of the Maine Department of Transportation property bounded by Town of Corinna Subdivision Lot 1, the East Branch of the Sebasticook River, Route 7, and Nokomis Road.

Property owned by Central Maine Power identified in indenture dated May 2, 1956 and recorded in the Penobscot County Registry of Deeds in Book 1532, Page 228, and generally depicted as Central Maine Power Company land in the Town of Corinna tax records as Lot 4 on Tax Map 20.

The properties proposed for deletion are shown in Figure 11 of Partial Deletion Technical Memorandum dated June 2012 and will be referred to hereafter as “the properties proposed for deletion”. All Tax Map references are based on the Town of Corinna 2004 Tax Maps and the “Survey Plan Showing Property Subject to Proposed Environmental Covenants for Maine Department of Environmental Protection, Corinna, Penobscot County, Maine” which is recorded in the Penobscot County Registry of Deeds as Plan File 2012 No. 20, dated March 29, 2012.

The NPL constitutes Appendix B of 40 CFR part 300, which is the National Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This partial deletion of the Eastland Woolen Mill Superfund Site is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

Because EPA considers this action to be noncontroversial and routine, this action will be effective October 1, 2012 unless EPA receives adverse comments by September 4, 2012. Along with this direct final Notice of Partial Deletion, EPA is co-publishing a Notice of Intent for Partial Deletion in the “Proposed Rules” section of the Federal Register. If adverse comments are received within the 30-day public comment period on this partial deletion action, EPA will publish a timely withdrawal of this direct final Notice of Partial Deletion before the effective date of the partial deletion and the partial deletion will not take effect. EPA will, as appropriate, prepare a response to comments and continue with the deletion process on the basis of the Notice of Intent for Partial Deletion and the comments already received. There will be no additional opportunity to comment.

Section II of this document explains the criteria for deleting sites from the NPL. Section III discusses procedures that EPA is using for this action. Section IV discusses the properties proposed for deletion and demonstrates how it meets the deletion criteria. Section V discusses EPA's action to delete these Site parcels from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Partial Deletion Procedures

The following procedures apply to the properties proposed for deletion:

(1) EPA has consulted with the State of Maine prior to developing this direct final Notice of Partial Deletion and the Notice of Intent for Partial Deletion co-published in the “Proposed Rules” section of the Federal Register.

(2) EPA has provided the State 30 working days for review of this notice and the parallel Notice of Intent for Partial Deletion prior to their publication today, and the State, through the Maine Department of Environmental Protection, has concurred on the partial deletion of the Site from the NPL.

(3) Concurrently with the publication of this direct final Notice of Partial Deletion, a notice of the availability of the parallel Notice of Intent for Partial Deletion is being published in a major local newspaper, Bangor Daily News. The newspaper notice announces the 30-day public comment period concerning the Notice of Intent for Partial Deletion of the Site from the NPL.

(4) The EPA placed copies of documents supporting the partial deletion in the deletion docket and made these items available for public inspection and copying at the Site information repositories identified above.

(5) If adverse comments are received within the 30-day public comment period on this partial deletion action, EPA will publish a timely notice of withdrawal of this direct final Notice of Partial Deletion before its effective date and will prepare a response to comments and continue with the deletion process on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Partial Deletion

The following information provides EPA's rationale for deleting the properties proposed for deletion:

Site Location

The Eastland Woolen Mill Superfund Site (MED980915474) (Site) is located in the center of the Town of Corinna, Penobscot County, Maine, approximately 6 miles north of Newport and 25 miles northwest of Bangor, Maine. Approximately 800 people live within one mile of the Site, and 2,500 people live within four miles.

The Town of Corinna is located within the East Branch of the Sebasticook River (EBSR) watershed, which drains to Sebasticook Lake approximately three miles south of the Town. Topography within the watershed is typified by gently rolling hills to steeply sloping ridges, varying from narrow valleys to fairly expansive low-lying floodplains. Elevations within the immediate vicinity of Corinna range from 200 to 320 feet above mean sea level (msl). The former Eastland Woolen Mill straddled the EBSR and the southern portion of the former Mill Pond.

Site Description

At the time of the placement of the Eastland Woolen Mill on the EPA NPL, the Site included the former Eastland Woolen Mill property and areas where contamination has migrated or otherwise come to be located due to mill operations. The Eastland Woolen Mill property was a 21-acre parcel located on the north side of Main Street, Corinna, in central Maine. There was a 250,000 square foot Mill building, two dams, and several out buildings on site. The mill building straddled the East Branch of the Sebasticook River with one dam located under the building near Main Street; the other dam is located approximately 500 feet north of the mill and maintains the water level of Corrundel Lake, a portion of the EBSR. The two dams also created an on-site mill pond. The Site is bordered to the north by Corundel Lake and residential property, to the south by Main Street, to the east by the Dexter Road and the Methodist Church, and on the west by Route 43 and several residential properties. As a result of the data collected to support the Engineering Evaluation and Cost Analysis (EE/CA) for a non-time-critical removal action (NTCRA) and the remedial investigation (RI) program, the footprint of the Site was better defined to extend south across Main Street and downstream in the EBSR.

Operational History

The Site was formerly dominated by the Eastland Woolen Mill building complex which, before its demolition in 2000, was comprised of a large manufacturing building and several ancillary structures, with a total area of 250,000 square feet. The buildings stood on both sides of and over the EBSR, a State-designated Class C water, which flows north to south through the center of Corinna. The original woolen-mill structure was built in the late 1800s or early 1900s. The property was a woolen mill as far back as 1912. Eastland Woolen Mill owned and operated the mill from 1936 to October 1996, when they closed the mill. Prior to closing in 1996, Eastland Woolen Mill was a manufacturer and finisher of wool and blended woven fabric. Fabric finishing included of the fabric to meet product or customer requirements. This dyeing operation took place in dye kettles and utilized various chemicals, including dyes and dye-aids that reportedly contained biphenyl and chlorinated benzene compounds, including 1,2-dichlorobenzene, 1,3-dichlorobenzene, 1,4-dichlorobenzene, and 1,2,4-trichlorobenzene.

Conditions That Led to Placement on National Priorities List (NPL)

Until construction of the Town of Corinna Wastewater Treatment Plant (WWTP) in 1969, liquid wastes from the mill were discharged to the ground surface beneath mill buildings, to Mill Pond Dam tailrace, and ultimately the EBSR. It was not until 1977 that all liquid waste streams were finally directed to the WWTP. As a result of these discharges, overburden soil and bedrock underlying mill buildings and river sediment and underlying soil extending several hundred feet downgradient were contaminated with chlorinated benzene compounds. Groundwater was contaminated at concentrations well above federal drinking water Maximum Contaminant Levels (MCLs) and State of Maine drinking water Maximum Exposure Guidelines (MEGs). Routine pumping of nearby residential bedrock wells spread the contamination laterally along bedrock bedding-plane fractures. Groundwater contamination was first documented in Corinna in 1983, when a MEDEP employee noticed a strange odor and taste in drinking water at the Gallison Restaurant located across the street from the Mill. Several water samples collected from the restaurant showed the presence of monochlorobenzene, dichlorobenzenes and trichlorobenzenes. Later in 1983, granular activated carbon (GAC) filters were installed on five water supply wells (residential and business) near the Mill to mitigate exposures to chlorinated benzene compounds.

Eastland Woolen Mill initiated formal environmental investigations in 1984 by performing a preliminary hydrogeologic investigation of the downtown area. The work included the completion of soil borings, installation of monitoring wells and piezometers, sampling and analysis of soil and groundwater, and a preliminary fracture-trace analysis. The investigation concluded that additional work was needed to identify a contaminant source area. By 1988, Eastland Woolen Mill had completed a study of residences and businesses at risk from the groundwater contamination and had investigated potential locations for installation of a public water supply system. It was concluded that contamination had likely spread via bedrock fractures and faults. Five additional private water supply wells were fitted with granular activated carbon filters based on results of water supply well sampling performed between 1983 and 1988.

In 1993, Eastland Woolen Mill completed Phase I of a chlorinated benzene contamination investigation in the downtown area. The report identified the tailrace beneath the Eastland Woolen Mill and the UST area where dye-aid had been stored as possible source locations.

Eastland Woolen Mill removed three underground storage tanks (USTs) from the UST Area in 1994. Chlorinated benzene compounds were detected in soil samples collected from the bottom of the excavation. Because free product was reported in the excavation and soil staining was observed, an overburden groundwater recovery well (R-1), consisting of a 30-inch-diameter corrugated metal pipe with slits in the bottom five feet and surrounded by crushed stone, was installed at the Site after removal of the USTs. In addition, a drum containing a dark oil-like substance was unearthed in the UST excavation. Recovery Well R-1 was pumped to collect chlorinated benzene-contaminated groundwater and flush contaminants from the “smear” zone between August 1994 and sometime in 1995. In conjunction with the pumping of groundwater from Well R-1, Eastland Woolen Mill instituted pumping of groundwater from the bedrock well on Lot 122, south of Main Street, now referenced as Recovery Well R-2.

In the fall of 1995, during the installation of water supply lines to serve residences affected by contamination, a dense non-aqueous-phase liquid (DNAPL) was reportedly observed within the till material beneath the gravel riverbed just downstream of the Main Street bridge. A consultant for Eastland Woolen Mill, Acheron, Inc., performed additional sampling of the sediments in the riverbed downstream of the Eastland Woolen Mill and found chlorinated benzene compounds and petroleum hydrocarbons both within the silty till layer beneath the rocky gravel riverbed and in a floodplain on the west side of the river.

After closure of the Eastland Woolen Mill in 1996, MEDEP sampled soils around the former USTs to evaluate whether residual soil contamination was present and acting as a source of groundwater contamination. This effort was supplemented in 1998 with additional analytical parameters and sampling of a background location. In 1997, MEDEP performed sediment sampling with field chemical screening to gain information on the magnitude of river bottom contamination documented by Acheron, Inc. in 1995. Additional sediment and surface water samples were collected from the river in 1998 for analysis. These investigations confirmed that high concentrations of chlorinated benzenes were present in the riverbed downstream of the Eastland Woolen Mill complex. This data was used to prepare the Hazard Ranking System scoring package that was submitted to EPA for placement of the Site on the National Priorities List (NPL).

National Priorities List Designation

The Site was proposed for inclusion on the NPL on April 23, 1999 (64 FR 19968). It was listed for final inclusion on the NPL on July 22, 1999 (64 FR 39878-39885).

State Response Action

In 1997, MEDEP performed an emergency response action to remove 54,673 pounds of various hazardous substances from process pipes, containers and vessels located within the Mill.

Land Use Assumptions

Future land use assumptions for the Site and surrounding areas (included the parcels proposed for deletion) are based on the Reuse Plan developed by the Town of Corinna. A large portion of the Site in the center of town has been targeted for a mix of commercial, residential and mixed-use development. The water supply system was expanded by the local water district to support future growth. The land use for properties proposed for deletion include: the Town of Corinna subdivision parcels 2, 3, 4, 5, 6, 8, 9, 10, a portion of Lot 54 on Tax Map 18, and Lot 118 on Tax Map 18, which are part of the targeted mix of commercial, residential, and mixed use development; one property owned by the Town of Corinna (Lot 53 on Tax Map 18) that will remain a public park (Winchester Park); the State of Maine Department of Conservation property which is a mixed use rail-trail that is primarily used for snowmobile travel; the Central Maine Power property that is expected to remain an electrical sub-station; and the State of Maine Department of Transportation property that is essentially right of way property related to Route 7. These land assumptions are expected to be valid for the foreseeable future.

Remedial Investigation and Feasibility Study (RI/FS)

From 1998 to 2002, USEPA performed a Remedial Investigation/Feasibility Study (RI/FS) for Operable Unit I (OUI) at the Eastland Woolen Mill site. OUI is the groundwater operable unit and includes overburden and bedrock groundwater contamination and also includes areas of deep soil contamination remaining after the NTCRA. All of the properties proposed for deletion are within the study area for OUI. The details of the OUI RI/FS can be found in the Remedial Investigation Report, Supplemental Remedial Investigation Report, Human Health Risk Assessment Report, and Baseline Ecological Risk Assessment Report that are included in the Administrative Record for the OUI Record of Decision (ROD). The RI for the OUI Study Area identified two areas where site-related contaminants exceeded federal and state drinking water criteria in overburden groundwater. One area is associated with the UST Area/Building 14 sub-area, and the other is downgradient of the former location of Buildings 1, 1A, and 3 within the Eastland Woolen Mill complex where liquid wastes were discharged. The RI also identified an area of bedrock groundwater contamination associated with the release of contamination from Buildings 1, 1A, and 3 (Area 1). The major groundwater contaminants of concern (COCs) were determined to be benzene, chlorobenzene, 1,2-dichlorobenzene, 1,3-dichlorobenzene, 1,4-dichlorobenzene, and 1,2,4 trichlorobenzene. The OUI RI and ROD also documented that three satellite areas of suspected contamination (School Street Yard, Moosehead Mill, and Bulk Fuels Storage Area) were not considered part of the Site based on the absence of contamination that would represent an unacceptable threat to human health or the environment. A fourth area, known as Lot 88, was also identified as not requiring any further action after the NTCRA removed the soil contamination from this property.

In September 2002, EPA created OUII to address the sediment and associated floodplain areas of the EBSR downstream of NTCRA excavation, as well as an area of solid and liquid waste disposal known as the old dump. During 2002 and 2003, EPA performed a series of studies to better define the potential for ecological impacts in the OUII area. Surface water, sediment, floodplain soil, and crayfish tissue samples were collected, and biological assessments of the benthic macro-invertebrate community were performed. The information from these studies was presented in a Supplemental RI Report. The information was also combined with the initial RI data to prepare a revised Baseline Ecological Risk Assessment Report that found there was no unacceptable risk to ecological receptors in the OUII area. Both reports were released in 2004 as part of the Administrative Record and were available for review during the public comment period for the OUII Proposed Plan. On September 30, 2004, EPA signed a ROD selecting No Further Action for OUII of the Site. EPA activities in the OUII Study Area are complete, and no further activities are anticipated for the OUII study area.

Components of RI Relating to Properties Proposed for Deletion

The RI evaluated the properties proposed for deletion. The Town of Corinna subdivision lots 8, 9, and 10, a portion of Lot 54 on Tax Map 18, along with Winchester Park were outside the footprint of the former Eastland Woolen Mill. The electrical sub-station owner by Central Maine Power was also outside of the footprint of the former Eastland Woolen Mill. Background research and Site reconnaissance activities as part of the RI and NTCRA along with the absence of groundwater contamination in the area led to the conclusion that these properties were not contaminated. Subdivision lots 8, 9 and 10 were included in the areas that were used for soil handling during the NTCRA, and cleanup confirmation work was performed at the completion of the NTCRA. The Town of Corinna subdivision lots 2, 3, 4, 5, and 6 are located in an area that was occupied by the dry processing operations at the Eastland Woolen Mill. This area was known as the “Slab Area”. As part of the OUI RI, five confirmation soil borings (SB-00-95 through SB-00-99) were completed within Slab Area (Figure 5-5 of the RI). The soil borings were spaced approximately 100 to 120 feet apart in the Slab Area (Figure 5-3 of the RI). One additional soil boring, (SB-01-106), was installed as part of the NTCRA by Weston in 2001. Table 5-3 of the RI provides a summary of volatile organic compounds (VOCs) detected in these Slab Area soil borings. Several VOCs were detected at concentrations that were below levels of concern for human contact. A monitoring well pair was installed to determine if the 1,1-dichloroethene detected in the soil was present in groundwater downgradient of the Slab area. VOCs were not detected in groundwater downgradient of the Slab, confirming that this area was not a significant source of groundwater contamination. The soil treatment facility for the NTCRA was located on the Slab Area. After the completion of the soil treatment, the Slab Area was further characterized to document that absence of significant contamination.

The State of Maine Department of Transportation, State of Maine Department of Conservation, and Town of Corinna (Lot 118 Tax Map 18) all owned property that included the contaminated sections of the EBSR. The extent of the contamination in the EBSR was documented by the NTCRA and RI investigations. In addition, State of Maine Department of Conservation also owned property within the former Eastland Woolen Mill complex near the former pump house and the State of Maine Department of Transportation owned property that was within and adjacent to the former Eastland Woolen Mill Complex. The RI and NTCRA investigation activities documented that these areas contained contaminants of concern above the Site specific cleanup levels.

Selected Remedy

There have been three major decision documents for the Eastland Woolen Mill. The 2004 Record of Decision for Operable Unit II clarified that no action was necessary for the areas within the East Branch of the Sebasticook River study area of the Site located south (downstream) from the OUI area. The 2002 Operable Unit I Record of Decision, which was amended in 2006, and the 1999 Non-Time Critical Removal Action Action Memorandum are the decision documents relevant to the partial delisting.

Non-Time-Critical Removal Action

In January 1999, following the evaluation of data collected during an expanded site inspection, EPA signed an Approval Memorandum authorizing the preparation of an Engineering Evaluation and Cost Analysis (EE/CA) to evaluate potential response alternatives for a NTCRA at the Site. The EE/CA recommended demolishing the mill complex buildings to allow for the excavation and treatment of the contaminated soils on the Site. After completion of a public comment period and consideration of the comments, EPA signed an Action Memorandum in July 1999 to authorize a NTCRA for the Eastland Woolen Mill Superfund Site. The Action Memorandum was amended in June 2000, September 2000, May 2001, and June 2004.

The NTCRA included the removal of the mill buildings (performed during the winter of 1999/2000) and contaminated soils from four areas (performed from 2000-2001). NTCRA work areas include: Area 1: Region underlying Mill Buildings 1, 1A, and 3 (2001); Area 2: River segment down river from the mill to the abandoned railroad trestle (2000); Area 2a: River segment under the abandoned railroad trestle and overlapping Area 2 and Area 3 (2000); Area 3: River segment for a distance several hundred feet beyond the railroad trestle (2000); and Area 4: Lot 88, Building 9, UST Area, and other miscellaneous areas (2000 and 2001).

During 2000 and 2001, approximately 75,000 cubic yards (yd3) of chlorinated-benzene contaminated soils were excavated and stockpiled at the Site in lined containment structures. In 2001, pilot testing of an on-site low temperature thermal soil treatment system was performed. The results of this pilot test indicated that the treatment system could meet established treatment goals. Full-scale on-site treatment of contaminated soil began in October 2002 and was completed in October 2003. Testing of the soil after treatment documented that all of the soil that was used for on-site backfill contained residual levels of contamination below residential cleanup standards and met the NTCRA groundwater leaching criteria that were developed during the NTCRA. To support the NTCRA excavation and thermal treatment activities, a temporary groundwater extraction and treatment system (referred to as the groundwater management system) was constructed to aid in control of groundwater infiltration during excavation activities. One bedrock well and four overburden wells were connected to a temporary treatment system. The system remained operational until November 2004 to provide hydraulic control over the groundwater plume during the initial phase of the NTCRA. A detailed summary of the NTCRA source removals was presented in the November 2006 Final Overall Completion Report for the NTCRA.

Three areas of contaminated soil were not accessible to the NTCRA excavations. One area was located within Area 1 and the other two were within the Area 4 UST Area and Building 14 Area. These remaining soils are located in the saturated zone between depths of 6 to 40 ft below ground surface (bgs). The final phase of the NTCRA targeted the reduction of contamination in these source areas using in-situ chemical oxidation (ISCO).

ISCO treatment as part of the NTCRA consisted of two full-scale injections of iron-catalyzed sodium persulfate (ICP), followed by confirmatory soil borings and groundwater sampling. These injections were performed in July and October/November 2005. The NTCRA program ended in May 2006 as documented by the Final Pollution Report (POLREP) for the Eastland Woolen Mill NTCRA that was finalized in September 2006.

OUI Record of Decision

EPA signed a ROD in September 2002 OUI ROD to address overburden and bedrock groundwater and the remaining areas of contaminated soil/DNAPL.

Specifically, the 2002 OUI ROD includes the following major components:

• Extraction and treatment of the contaminated overburden and bedrock groundwater. The extraction system will be designed to prevent off-site migration of contaminated groundwater, prevent contaminated groundwater from having an adverse impact on the benthic community in the EBSR, and restore the aquifer to federal and state MCLs, federal non-zero MCLGs and more stringent state MEGs.

• In-situ treatment of the contaminated overburden and bedrock groundwater and remaining areas of contaminated soil and DNAPL. A chemical reagent (e.g., Fenton's Reagent or another oxidizing agent) will be added to the overburden and bedrock aquifer to reduce the mass of contaminants in the system. If the mass reduction is not sufficient to achieve cleanup levels, then enhanced flushing (using surfactants/solvents) and biological degradation (using bio-stimulants) will be attempted to further reduce the mass of contamination.

• Connection of certain residences to the water supply lines to prevent their wells from becoming contaminated, and to prevent expansion of the contamination in the groundwater.

• Implementation, monitoring and maintenance of institutional controls (i.e., deed restrictions) in the form of groundwater use restrictions (e.g., easements or restrictive covenants) to prevent ingestion of groundwater and disturbance of the groundwater extraction and treatment system.

• Long-term monitoring of groundwater, surface water and sediments to evaluate the success of the remedial action.

• Implementation of five-year reviews to assess the protectiveness of the remedy until cleanup goals have been met.

The 2002 OUI ROD was written prior to the completion of the NTCRA that commenced in 1999. Therefore, the impact of the NTCRA-related excavation and treatment of the contaminated overburden source areas was uncertain at the time of the ROD. Subsequent to the signing of the 2002 OUI ROD and the completion of the NTCRA excavation and treatment program, EPA performed assessment monitoring of the groundwater. EPA also developed an improved conceptual site model through additional hydro-geologic investigations and groundwater modeling.

Based on the information developed after the 2002 OUI ROD, EPA decided to amend the 2002 OUI ROD. The September 2006 OUI ROD Amendment eliminated the groundwater extraction and treatment system because the contaminant plume was stable and groundwater extraction was not necessary to contain the plume. The OUI ROD Amendment also eliminated the enhanced flushing component with surfactants or co-solvents because this technology was not considered viable for the fractured bedrock after further evaluation. The OUI ROD Amendment retained the emphasis on the in-situ chemical oxidation, long-term monitoring, and institutional controls.

Based on the groundwater modeling that was performed for the OUI Remedial Design, the OUI ROD Amendment revised the area where institutional controls would be necessary and defined three categories of properties within the institutional control zone. The three property categories were identified as IC Zone A (ICZ-A), IC Zone B (ICZ-B), and IC Zone C (ICZ-C).

ICZ-A identified those properties that will be subject to environmental covenants prohibiting use of groundwater over the entire property. All of the ICZ-A properties had been connected to the water line prior to the OUI ROD. Within the ICZ-A boundary, all existing bedrock and overburden water supply wells will be formally decommissioned, unless the wells are converted to monitoring wells for use in the long-term remedial action. ICZ-B identified those properties where connection to the water line and implementation of an environmental covenant prohibiting use of groundwater over the entire property was determined to be necessary as part of the OUI ROD and Remedial Design. All of these properties were connected to the water line as part of the OUI Remedial Action, moving these properties to ICZ-A; there is therefore no longer a functional application for ICZ-B.

ICZ-C identified those properties where the current well is not contaminated and does not appear to be impacting the groundwater contamination, however, the groundwater modeling suggested that a modification to the existing well to increase yield, or the installation of a new well at locations on the property closer to the Site, could have an adverse impact on the groundwater contamination by inducing migration of the groundwater contamination. The restrictions on these properties will prohibit installation of future groundwater wells in locations or at depths that differ from existing water supply wells located on these properties. ICZ-C properties may continue to use their private water wells within this zone for domestic or other uses. There are two properties included in ICZ-C.

OUI ROD and OUI ROD Amendment Risk Characterization Summary

The 2002 OUI ROD included an assessment of the potential threats to human health in the OUI study area. Based on the Human Health Risk Assessment prepared as part of the RI and the 2002 OUI ROD, the only pathways that exceeded EPA's acceptable cancer risk range and/or a hazard quotient of concern were ingestion of groundwater in the overburden and bedrock plumes by a future resident. The lifetime cancer risk estimate for a combined child and adult exposure to the bedrock plume groundwater is 6 × 10⁻³. Seventy-five percent of this risk is due to arsenic, with twenty-five percent attributable to the 1,4-DCB. EPA's hazard index of concern for non-carcinogenic risk is exceeded for children and adults for several target organs. The major contributors to these exceedances are chlorobenzene, 1,2-DCB, 1,3-DCB, 1,4-DCB, 1,2,4-TCB and arsenic. These COCs also were detected at concentrations above federal and state maximum contaminant levels (MCLs) and any more stringent state maximum exposure guidelines (MEGs). The lifetime cancer risk estimates for the overburden plume groundwater was 2 × 10⁻³. Sixty-seven percent of this risk is attributable to 1,4-DCB, with arsenic contributing to the remainder of the cancer risk. EPA's hazard index of concern for non-carcinogenic risk is exceeded for children and adults for several target organs. The major contributors to these exceedances are chlorobenzene, 1,2-DCB, 1,3-DCB, 1,4-DCB, 1,2,4-TCB and arsenic. These COCs also were detected at concentrations above federal and state MCLs and any more stringent state MEGs. The Baseline Human Health Risk Assessment concluded that the estimated risk for the soils, surface water, or sediments within the OUI area do not represent an unacceptable threat to human health. Only groundwater represents a threat to human health. Soil contamination that is causing groundwater contamination is also relevant to the cleanup action.

Based on the OUI Baseline Ecological Risk Assessment, the OUI ROD concluded that contaminant levels in surface waters, surface soils and sediments within the entire OUI area of the EBSR are not sufficiently elevated to pose a substantial risk to invertebrates, fish or wildlife. Exposure to the contaminated water at the groundwater/surface water interface, however, was identified as an unacceptable risk to those organisms dwelling in this zone. Data gathered since the 2002 OUI ROD, however, demonstrates that the concentration of contaminants in the groundwater do not exceed the levels that have the potential for an unacceptable risk to organisms dwelling in the groundwater/surface water interface. Therefore, the successful implementation of the NTCRA and OUI remedy has eliminated this risk.

Based on the successful removal of any soil contamination above the Site-specific contaminants of concern by the NTCRA, the only viable exposure pathway for the properties proposed for deletion is potential future consumption of contaminated groundwater. This would only occur upon the expansion of the groundwater contaminant plume, resulting from a pumping stress from a well that is currently outside the area of groundwater contamination but within the institutional control zone. The OUI ROD and OUI ROD Amendment both identified the need to maintain the water line connections and the implementation of institutional controls to prevent active water supply wells as critical components to protect public health.

OUI ROD and OUI ROD Amendment Remedial Action Objectives

The Remedial Action Objectives in the OUI ROD and OUI ROD Amendment were identical and are listed below:

• Prevent the ingestion of groundwater containing contaminants that exceed federal or state MCLs, federal non-zero MCL Goals (MCLGs) and more stringent state MEGs, or in their absence, an excess cancer risk of 1 × 10⁻⁶ or a hazard quotient of 1;

• Prevent, to the extent practicable, the off-site migration of groundwater containing contaminants at a concentration above Site cleanup levels;

• Prevent, to the extent practicable, the discharge of groundwater containing contaminants at a concentration above levels that could impact ecological receptors to the East Branch of the Sebasticook River;

• Restore groundwater to meet federal or state MCLs, federal non-zero MCLGs or state MEGs (whichever is most stringent), or in their absence, an excess cancer risk of 1 × 10⁻⁶ or a hazard quotient of 1; and

• Perform long-term monitoring of surface water, sediments and groundwater to verify that the cleanup actions at the Site are protective of human health and the environment.

OUI Remedial Design

The Remedial Design for the OUI Remedial Action was initiated in 2003 and completed in August 2005. The Remedial Design was implemented in close coordination with the final phase of the NTCRA ISCO program since both programs relied on ISCO to reduce the mass of contamination in the overburden soil and bedrock. As such, the NTCRA design support activities and the Remedial Design support activities are complementary. A series of additional studies and investigations were performed between 2003 and 2005 to develop the design for the NTCRA ISCO program and the in-situ treatment portion of the OUI Remedial Action.

The additional studies and investigations most relevant to the properties proposed for deletion were (1) The groundwater monitoring to update the extent of groundwater contamination remaining after the NTCRA, (2) the installation of additional bedrock monitoring wells to refine the aquifer characteristics, and (3) groundwater modeling to refine the properties that would require land use restrictions to prevent consumption of contaminated groundwater and pumping stresses that could cause the expansion of the groundwater plume.

The Remedial Design refined the institutional control zone using numerical modeling of bedrock groundwater flow and contaminant transport to evaluate the potential long-term migration of the bedrock plume under both pumping and non-pumping scenarios. This modeling, along with the groundwater monitoring data, documented that the institutional control zone will adequately protect public health.

OUI Remedial Action

The OUI Remedial Action has three main components. One is the connection of certain residences to the water line and the implementation of institutional controls to prevent exposure to contaminated groundwater or pumping stresses that could cause the expansion of the groundwater plume. A second is the continued treatment of the deep contamination soil and groundwater to achieve aquifer restoration. The third is the long-term monitoring, inspections, and five-year reviews to assure that the remedial action is protective of human health and the environment.

Most of the properties within the institutional control zone were connected to the local water supply line prior to the OUI Remedial Action. Based on the results of ongoing bedrock groundwater monitoring and numerical groundwater modeling performed as part of the Remedial Design, it was determined that certain residences proximal to the Site, including those identified on Map 18 as Lots 39, 43, and 52, were currently impacted by Site contaminants or had the potential to be impacted in the future. These residences were connected to the existing public water supply between September and December 2005. The land use restrictions for the properties proposed for deletion were completed in May 2012 and were recorded in the Penobscot Registry of Deeds on June 5, 2012. The land use restriction, in the form of an environmental covenant, will prevent current and future use of the contaminated groundwater or to prevent pumping stresses that could cause the groundwater contamination plume to migrate.

The RA also continued the in-situ chemical oxidation program initiated by the NTCRA. Several additional in-situ chemical oxidation injections occurred between 2006 and 2008. The Remedial Action activities were completed in 2008, as documented in the OUI Interim Remedial Action Report and the September 2008 Preliminary Closeout Report. The OUI component of the Site is now in the long-term response action component of the remedial action. The ongoing remedial action activities include: Completion of the land use restrictions; long-term monitoring of groundwater and surface water; well decommissioning; site demobilization; and completion of the in-situ chemical oxidation program. A limited soil gas program is to be implemented in 2012 to address soil vapor issues. The remedial action will be completed by 2018 when the State of Maine will take over the long term operation, maintenance, and monitoring requirements.

Cleanup Goals

The parcels identified for deletion are within the NTCRA and OUI area and, therefore, share the same cleanup goals. The extent of the groundwater contamination above Site-specific cleanup goals has been reduced to an area that is within the boundaries of the Site that will remain after the partial deletion. Groundwater monitoring performed as part of the long-term groundwater monitoring program at the Site confirms that the contaminants of concern are not at concentrations above the Site specific cleanup levels on the properties proposed for deletion. Groundwater data was collected in 2006, 2007, 2009, 2010, and 2011. The data for each sampling event is contained with each annual groundwater monitoring report and is included in the record for the proposed deletion. The area of the Site that included the parcels identified for delisting was located in the dry processing and parking areas of the former Eastland Woolen Mill. The NTCRA program resulted in the excavation and on-site treatment of any soils within the area identified for delisting. The table below documents that the NTCRA successfully treated the Site soil to levels that would allow for unrestricted use.

NTCRA Soil Cleanup Analytical Summary
Contaminant | NTCRA soil cleanup level (μg/kg) | 95% Upper confidence level concentration of soil used as backfill after treatment (μg/kg) based on 4,200 soil samples
1,2,4 Trichlorobenzene | 5,000 | 4,451
1,2,3 Trichlorobenzene |  | 1,408
1,2 Dichlorobenzene | 17,000 | 610
1,3 Dichlorobenzene | 41,000 | 285
1,4 Dichlorobenzene | 2,000 | 563
Chlorobenzene | 1,000 | 169
Benzene | 30 | *
* Note: Benzene was only detected twice in 4,183 samples.

Operation and Maintenance

Operation and maintenance activities for the parcels proposed for deletion include monitoring and maintenance of the institutional controls to ensure they effectively prohibit private well installation. In addition, the groundwater underlying these parcels continues to be monitored as part of the site-wide groundwater monitoring plan.

Summary of the Data Documentation That the Deletion Criteria Have Been Met

The OUI Record of Decision documented that the soil and surface water for the entire OUI area, including the properties proposed for deletion, do not represent an unacceptable threat to human health. The OUI Record of Decision identified groundwater as the only remaining threat to human health after the NTCRA. Groundwater discharge to surface water was the only ecological threat identified for the OUI. The supporting data for the characterization of the area to be delisted can be found in both the RI Report and NTCRA Documentation. In addition, long-term groundwater monitoring data documents that the properties proposed for deletion do not contain groundwater above the Site-specific cleanup goals established in the 2002 OUI ROD and 2006 OUI ROD Amendment. The properties proposed for deletion at the Eastland Woolen Mill Superfund Site do not contain soil or groundwater contamination above the Site specific cleanup levels.

The properties proposed for deletion that are identified in the Town of Corinna subdivision plan as Lots 2, 3, 4, 5, 6, 8, 9, and 10, portions of Lot 54 on Tax Map 18, the property identified as Lot 53 on Tax Map 18, and the property owned by Central Maine Power were not within the areas where substantial contamination was located. These properties contained open space, the dry processing portions of the former Eastland Woolen Mill, and office space. The concrete foundation where the dry processing of the woolen products was conducted was referred to as the “Slab Area” in the RI and NTCRA.

As part of the OUI RI, five confirmation soil borings (SB-00-95 through SB-00-99) were completed within Slab Area (see Figure 5-5 of the RI). One additional soil boring, (SB-01-106), was installed as part of the NTCRA by Weston in 2001. Table 5-3 of the RI provides a summary of volatile organic compounds (VOCs) detected in these Slab Area soil borings. Low levels of several VOCs were detected. The concentrations were below levels of concern for human contact. A monitoring well pair was installed to determine if the 1,1-dichloroethene detected in the soil was present in groundwater downgradient of the Slab area. VOCs were not detected in groundwater downgradient of the Slab, confirming that this area was not a significant source of groundwater contamination.

The Slab was not removed until after the ex-situ soil treatment phase of the NTCRA. Prior to the removal of the concrete pad, one sample was collected per 500 ft² using an excavator bucket to access the soil located below the concrete pad. A few areas with petroleum contamination were identified, and these soils were removed to allow for Site restoration. A total of 176 samples were collected prior to concrete pad removal. A map showing the locations of these samples is presented in Figure 17 of Appendix J in the November 2006 Final Overall Completion Report for the NTCRA, and analytical results are presented in Table 27 of this report. All of the results from these initial 176 samples collected prior to the concrete pad removal confirmed that the soil concentrations were below the Site-specific cleanup levels. An additional five locations were sampled and characterized during concrete pad and footer wall removal due to staining or suspected contamination in the soil. Samples were analyzed for VOCs, DRO, polychlorinated biphenyls and/or metals based on the type and location of the staining. A summary of analytical results is shown in Table 28 of Appendix J in the November 2006 Final Overall Completion Report for the NTCRA, and sample locations are shown in Figure 18 of this report. Three of these locations contained Diesel Range Organic contamination. The contamination was removed because the soil was in an area where grading was necessary.

In addition to the Slab Area, a portion of the properties to be deleted were used to store contaminated soil in a stockpile prior to treatment. After completion of the treatment of the contaminated soil, 22 soil samples were collected below the contaminated soil stockpile to verify that the soil did not contain the COCs at levels above the site cleanup levels. A map detailing sample locations within the stockpile footprint is shown in Figure 16 of Appendix J in the November 2006 Final Overall Completion Report for the NTCRA. The analytical results for all samples collected from the below the stockpile footprint are presented in Table 26 of this report. Sample location 21, initially sampled on 9 October 2003, showed 1,2,4-TCB at levels above the Site specifc soil excavation goal of 5,000 microgram per kilogram (μg/kg). Therefore, a 6-inch layer of soil was removed from this grid of the stockpile footprint and processed through the LTTT system. A subsequent sample of this location was collected on 10 October 2003. Results from this sample were well below Site specific cleanup levels.

In summary, the Town of Corinna subdivision lots 2, 3, 4, 5, 6, 8, 9, and 10, the portion of Subdivision Lot 1 north of the Central Maine Power property, a portion of Lot 54 on Tax Map 18, the property identified at Map 18 Lot 53 (Winchester Park) and the property owned by Central Maine Power have been evaluated during the RI and NTCRA activities. The RI documented that the area was not a substantial threat to groundwater. The NTCRA sampling further documented that these properties do not contain soil contamination above the Site specific cleanup levels.

Portions of the property owned by the State of Maine Department of Transportation, State of Maine Department of Conservation, and the Town of Corinna property described in Quitclaim Deed dated August 18, 1997 and recorded in Book 6471, Page 278, also identified as Lot 118 in Tax Map 18 dated 2004 were within the area subject to the excavation of contaminated soil and sediment as part of the NTCRA.

A portion of the State of Maine Department of Conservation property crossed the former Eastland Woolen Mill property near the area known as the pump house. The soil excavation and cleanup confirmation for this area can be found in Appendix H of the November 2006 Final Overall Completion Report for the NTCRA. Appendix H is titled: Areas 1 and 4 Soil Remediation and River Restoration Final Completion Report, Eastland Woolen Mill Superfund Site, Corinna, Maine, February 2004. Figures 2a-3b and Tables B-6 and B-7 of this report document that the cleanup was successful for those properties.

A portion of the State of Maine Department of Transportation property that is proposed for de-listing was within the Area 1 excavation area. The soil excavation and cleanup confirmation for this area can be found in Appendix H of the November 2006 Final Overall Completion Report for the NTCRA. Appendix H is titled: Areas 1 and 4 Soil Remediation and River Restoration Final Completion Report, Eastland Woolen Mill Superfund Site, Corinna, Maine, February 2004. Figures 4a-4b and Tables B-9 of this report document that the cleanup was successful for these properties.

A portion of the State of Maine Department of Transportation, State of Maine Department of Conservation, and Town of Corinna properties included the East Branch of the Sebasticook River. Appendix G in the November 2006 Final Overall Completion Report for the NTCRA documents the excavation and cleanup confirmation activities for these areas. Appendix G is titled: Areas 2, 3, 4—Lot 88, and 4—Building 4 Soil Remediation Final Completion Report, Eastland Woolen Mill Superfund Site, Corinna, Maine, June 2001. Specifically, Figures A-3A through A-4B and Tables B-7 and B-8 of Appendix G show the location and data that document that the cleanup was successful for these properties.

In summary, the property owned by the State of Maine Department of Transportation, State of Maine Department of Conservation, and the Town of Corinna property described in Quitclaim Deed dated August 18, 1997 and recorded in Book 6471, Page 278, also identified as Lot 118 in Tax Map 18 dated 2012 that are proposed for de-listing no longer contain contamination above the Site specific cleanup levels as documented by the completion report for the NTCRA.

Five-Year Review

The assessment of the first five-year review performed in 2010 found that the remedy was constructed in accordance with the requirements of the Record of Decision (ROD) issued in 2002 and amended in 2006. The LTRA remedy is functioning as designed. As a result of the response actions at the Site, there is no current exposure to contaminants at the Site. A water line provides clean water and planned ICs will ensure appropriate future use of potentially contaminated groundwater. The remedy at the Eastland Woolen Mill Superfund Site currently protects human health and the environment because the contamination accessible to ecological receptors has been removed, there is no current human exposure to contamination, the groundwater contamination is not migrating, clean water is available to all locations within the extent of the groundwater contamination, and EPA is actively treating and monitoring the groundwater as part of the on-going Long-Term Response Action. However, in order for the remedy to be protective in the long-term, the institutional controls to prevent future groundwater use need to be in place to ensure long-term protectiveness. As part of this five-year review, a preliminary assessment of the potential for vapor intrusion to present a threat at the Site was performed. There are no structures above areas of the plume that exceed vapor intrusion screening criteria, so the pathway is not complete. Further investigations regarding the vapor intrusion pathway will be completed prior to the next five-year review. Further investigation regarding the vapor intrusion pathway will be completed on properties that are not subject to the partial deletion.

Since the completion of the five-year review, the institutional controls, that are in the form of environmental covenants, have been completed for the properties that will remain within the Site and the properties that are proposed for deletion. The only institutional controls that remain to be completed are for properties that are off-site. The groundwater under these remaining properties is not contaminated but a pumping well on these properties could cause the contaminated groundwater plume to expand. In addition, the properties proposed for deletion are not in the area where the vapor intrusion evaluation is being re-evaluated. The ICs for the properties proposed for deletion and the properties that will remain within the boundaries of the Site were signed in May 2012 and recorded in June 5, 2012. The next five-year review will take place in 2015.

Community Involvement

Throughout the EPA cleanup of the Site, community concern and involvement has been high. The local Selectboard actively sought EPA's involvement at the Site to address the contamination left behind by the closure of the mill in 1996. EPA has kept the community and other interested parties informed of Site activities through informational meetings, fact sheets, press releases and public meetings. Information about the Site is posted on EPA's Web site. EPA has met regularly with the community and Selectboard to keep them informed and to seek their input regarding Site activities. The community has also benefited from a Web site (www.cattailpress.com), which was developed and is maintained by a local resident. The Web site contained daily photographs of Site activities during the NTCRA demolition and excavation activities and has provided a forum for community dialogue regarding the Site. EPA's public notices and fact sheets have been posted on this Web site as well. EPA provided the community with a Technical Assistance Grant (TAG) and a Redevelopment Pilot Grant. EPA identified the potential for partial delisting of the Eastland Woolen Mill in a community update issues in 2006. EPA issues a fact sheet in 2010 to announce the performance of the Five Year Review. EPA met with the community in May 2010 to discuss the Site status and Five Year Review. All Community Involvement activities required and associated with this proposed partial deletion have been completed, including the publication of a notice in a local newspaper of general circulation regarding this proposed deletion and the availability of documents located in the Deletion Docket.

Determination That the Criteria for Deletion Have Been Met

The NCP specifies that EPA may delete a site from the NPL if “all appropriate responsible parties or other persons have implemented all appropriate response actions required” or “all appropriate fund-financed response under CERCLA has been implemented, and no further response action by responsible parties is appropriate” or “the remedial investigation has shown that the release poses no significant threat to public health or the environment and, therefore, the taking of remedial measures is not appropriate”. For the partial deletion proposed at the Eastland Woolen Mill Superfund Site:

• All appropriate Fund-financed response under CERCLA has been implemented, and no further response action by responsible parties is appropriate; as required by 40 CFR 300.425(e)(1)(ii). An Interim Remedial Action Report was completed in 2008 to document the completion of the Remedial Action activities, including the area subject to de-listing.

EPA, with the concurrence of the State of Maine through the Maine DEP by a letter dated June 14, 2012, believes these criteria for deletion have been satisfied. Therefore, EPA is proposing the deletion of certain properties at the site from the NPL. All of the completion requirements for the properties proposed for deletion at the Site have been met.

V. Partial Deletion Action

The EPA, with concurrence of the State of Maine through the Maine Department of Environmental Protection, on June 14, 2012, has determined that all appropriate response actions under CERCLA have been completed for the properties proposed for deletion. Therefore, EPA is deleting the following properties:

Properties owned by the Town of Corinna that include properties described in Quitclaim Deed dated August 18, 1997 and recorded in Book 6471, Page 278, also identified as Lot 118 in Tax Map 18 dated 2004 and several additional properties that were part of the former Eastland Woolen Mill complex that were acquired due to a tax foreclosure. The tax foreclosure properties are described in the Penobscot County Registry of Deeds in Condemnation Order dated December 8, 1999 and recorded in Book 7251, Page 47 and a portion of the property has been subdivided in accordance with a plan dated October 19, 2004 entitled, “Subdivision Plan for the Town of Corinna of Main Street Subdivision on Main Street, Hill Street & St. Albans Road in Corinna, County of Penobscot, Maine,” recorded in said Registry in Plan File 2004, No. 167 (the “Subdivision Plan”). Specifically, subdivision Lots 2, 3, 4, 5, 6, 8, 9, 10, the portion of Subdivision Lot 1 north of the Central Maine Power property, and a portion of Lot 54 on Tax Map 18, along with Lot 53 on Tax Map 18, are proposed for deletion. The portions of Main Street and Hill Street within the subdivision are also proposed for deletion. Lot 53 on Tax Map 18 is also recorded in Book 853, Page 391, as a warranty deed dated September 26, 1913 and is known as “Winchester Park”.

Property owned by the State of Maine Department of Conservation identified in Release Deed dated December 5, 2003 Book 9114, Page 194, also identified in Tax Map 18 as Map 15 Lot 10 (which a portion of the State of Maine Department of Conservation recreational trail that runs through the Town of Corinna).

Property owned by the State of Maine Department of Transportation described in a Notice of Layout and Taking dated May 3, 2000, and recorded in the Penobscot County Registry of Deeds in Book 7357, Page 29, and being generally depicted on the Survey Plan Showing Property Subject to Proposed Environmental Covenants for Maine Department of Environmental Protection, Corinna, Penobscot County, Maine which is recorded in the Penobscot County Registry of Deeds as Plan File 2012 No. 20 dated March 29, 2012, but excluding the portion of the Maine Department of Transportation property bounded by Town of Corinna Subdivision Lot 1, the East Branch of the Sebasticook River, Route 7, and Nokomis Road.

Property owned by Central Maine Power identified in indenture dated May 2, 1956 and recorded in the Penobscot County Registry of Deeds in Book 1532, Page 228, and generally depicted as Central Maine Power Company land in the Town of Corinna tax records as Lot 4 on Tax Map 20.

Because EPA considers this action to be noncontroversial and routine, EPA is taking it without prior publication. This action will be effective October 1, 2012 unless EPA receives adverse comments by September 4, 2012. If adverse comments are received within the 30-day public comment period, EPA will publish a timely withdrawal of this direct final notice of partial deletion before the effective date of the partial deletion and it will not take effect. EPA will prepare a response to comments and continue with the deletion process on the basis of the notice of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 16, 2012.
Ira W. Leighton,
Regional Administrator. Region 1.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

Appendix B—[Amended]

2. Table 1 of Appendix B to part 300 is amended by revising the entry under “Eastland Woolen Mill”, “ME” to read as follows:

Appendix B to Part 300—National Priorities List

Table 1—General Superfund Section
State | Site name | City/County | Notes (a)
| * * * * * * *
ME | Eastland Woolen Mill | Corinna | P
| * * * * * * *
(a) * * *
P = Sites with partial deletion(s).

[FR Doc. 2012-18660 Filed 8-1-12; 8:45 am]

BILLING CODE 6560-50-P